DEPARTMENT OF THE INTERIOR

Fish and Wildlife Service

Endangered Species Permit Issuance

AGENCY: Fish and Wildlife Service, Interior.

ACTION: Notice of emergency exemption issuance.

SUMMARY: The following applicant has been issued a scientific research permit to conduct certain activities with an endangered species pursuant to section 10(a)(1)(A) of the Endangered Species Act of 1973, as amended (16 U.S.C. 1531 et seq.).

FOR FURTHER INFORMATION CONTACT: Linda Belluomini, Permits Biologist at 503-231-2063.

SUPPLEMENTARY INFORMATION: The Washington Department of Fish and Wildlife has been authorized via permit number TE-050644, by the U.S. Fish and Wildlife Service's Pacific Region to capture individuals from the Columbia Basin distinct population segment (DPS) of the pygmy rabbit (Brachylagus idahoensis) for a captive propagation program. We issued this permit for the purpose of enhancing the propagation and survival of the Columbia Basin pygmy rabbit. The 30-day public comment period required by the Endangered Species Act (Act) was waived in accordance with section 10(c) of the Act upon a determination that an emergency affecting the health and life of specimens of Columbia Basin pygmy rabbits exists, and that no reasonable alternative is available to the applicant.

The Columbia Basin pygmy rabbit DPS has undergone dramatic annual declines since 1998, and the entire wild portion of this population now consists of fewer than 50 individuals from just 1 known colony on State land in Douglas County, Washington. As part of a captive breeding program, initiated by the Washington Department of Fish and Wildlife (WDFW) during the spring of 2001, an additional 14 individuals from this population are being held in captivity, including 5 offspring born at the holding facility. The WDFW has scheduled additional capture operations over the next 30 days in order to secure more animals for the captive breeding program. The intent is to capture additional animals from the wild that will complement the genetic profiles and potential breeding scenarios of those already in captivity. Any pygmy rabbits that are not considered essential to the captive breeding program will be left in the wild, and ongoing management to protect this portion of the population will continue.

Delay in the WDFW's planned activities due to the 30-day public comment period could jeopardize the success of the captive breeding program and, ultimately, the long-term security of the Columbia Basin pygmy rabbit. Individuals within the wild portion of this population may experience significant mortality due to increased susceptibility to predation and inclement weather with the onset of winter, and additional animals may not be available for capture later in the season. Even if this population does not undergo further decline this winter, any wild individuals will likely have weakened body conditions and be more susceptible to capture-related stress and mortality if captured later in the season. Capture operations in midwinter may also be compromised by seasonal precipitation and/or low temperatures. Finally, capturing any additional animals later in the season will give them less time to acclimate to the holding facilities, and they may be unavailable for breeding efforts planned for early spring 2002.

Dated: December 6, 2001.
Rowan W. Gould,
Acting Regional Director, Region 1, Portland, Oregon.

[FR Doc. 01-31193 Filed 12-18-01; 8:45 am]

BILLING CODE 4310-55-P